BUREAU OF CONSUMER FINANCIAL PROTECTION

[Docket No: CFPB-2016-0009]

Agency Information Collection Activities: Comment Request

Correction

In notice document 2016-05179 appearing on pages 12479-12480 in the issue of March 9, 2016, make the following correction:

On page 12479, in the third column, under the DATES heading, in the third line, “March 9, 2016” should read “May 9, 2016”.

[FR Doc. C1-2016-05179 Filed 3-9-16; 4:15 pm]

BILLING CODE 1505-01-D